DEPARTMENT OF TRANSPORTATION

Federal Aviation Administration

Release of Airport Property: Orlando Executive Airport, Orlando, FL

AGENCY: Federal Aviation Administration (FAA), DOT.

ACTION: Request for public comment.

SUMMARY: The FAA hereby provides notice of intent to release certain airport properties 12.4 acres at the Orlando Executive Airport, Orlando, FL from the conditions, release certain properties from all terms, conditions, reservations and restrictions of a Quitclaim Deed agreement, dated August 9, 1961, between the subject airport and the Federal Aviation Administration. The release of property will allow the Greater Orlando Aviation Authority to dispose of the property for municipal purposes. The property is located south-southwest portion of airport property, adjacent to State Road 408, in Orange County, Florida. The parcels are currently designated as non-aeronautical use. The property will be released of its federal obligations for Fair Market Value. The fair market value of the parcels is estimated to be $2,243,160.

Documents reflecting the Sponsor's request are available, by appointment only, for inspection at the Greater Orlando Aviation Authority Offices at the Orlando International Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: Comments are due on or before February 27, 2012.

ADDRESSES: Documents are available for review at the Greater Orlando Aviation Authority Offices at the Orlando International Airport, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

W. Dean Stringer,
Manager, Orlando Airports District Office, Southern Region.

[FR Doc. 2012-1850 Filed 1-26-12; 8:45 am]

BILLING CODE 4910-13-P